NATIONAL SCIENCE FOUNDATION

Special Emphasis Panel in Research, Evaluation and Communication; Notice of Meeting

In accordance with the Federal Advisory Committee Act (Pub. L. 92-463), as amended), the National Science Foundation announces the following meeting:

Name: Special Emphasis Panel on Research, Evaluation and Communication (1210).

Dates/Time: January 29, 2002 (8:00 a.m.-5:00 p.m.), January 30, 2002 (8:00 a.m. to-5:00 p.m.).

Place: National Science Foundation, 4201 Wilson Boulevard, Arlington, VA.

Type of Meeting: Open.

Contact Person: Kenneth Whang, Program Director, Division of Research, Evaluation and Communication (REC), Room 855, National Science Foundation, 4201 Wilson Boulevard, Arlington, VA 22230, Telephone: 703/292-8650.

Purpose of Meeting: To discuss trends and implications of brain research and education.

Agenda (Tentative):

January 29, 2002

2:15 pm

Overview and welcome

Introductions

2:30 pm

The ROLE portfolio: brain and cognitive components

3:00 pm

Discussion

3:30 pm

The ROLE program: guidelines, review, and management

4:00 pm

Discussion

4:30 pm

The ROLE community: outreach and development

5:00 pm

Discussion

5:30 pm

Break

6:00 pm

Dinner

January 30, 2002

8:30 pm

Synthesis and outstanding issues

Discussion a

10:00 am

Complete panel write-ups of recommendations

12:00 pm

Adjourn

Dated: January 8, 2002.
Susanne Bolton,
Committee Management Officer.

[FR Doc. 02-774 Filed 1-10-02; 8:45 am]

BILLING CODE 7555-01-M